DEPARTMENT OF LABOR

Employment and Training Administration

Information Regarding the Transfer of Temporary Program Cases to the Atlanta and Chicago National Processing Centers, the Processing Locations for Foreign Labor Certification Applications Filed With State Workforce Agencies and the Department of Labor, and the Filing of Applications for Certification Under the E-3 Worker Visa Program

AGENCY: Employment and Training Administration (ETA), Department of Labor.

ACTION: Notice.

SUMMARY: The Employment and Training Administration (ETA) of the Department of Labor (Department or DOL) is issuing this notice to clarify the locations where applications may be filed and are being processed, respectively, for the permanent labor certification and major temporary foreign labor certification programs administered by ETA's Division of Foreign Labor Certification; to clarify key procedures within each program that may be impacted by ETA's transition from region-based to center-based review; and to provide initial guidance for employers filing applications for certification under the new E-3 worker visa program for Australian professionals seeking to temporarily work in the United States. Recent reforms in several of these programs, as well as the streamlining and centralization of operations and filing procedures to better serve the needs of stakeholders, have required periodic changes to filing locations. This notice describes and further clarifies current filing requirements for each major program. A chart attached to this notice provides users with a convenient, one-stop reference on program-specific filing requirements. This chart will be updated and published in the Federal Register and posted on DOL's Web site.

DATES: Effective Date: This notice is effective immediately.

FOR FURTHER INFORMATION CONTACT: William Carlson, Chief, Division of Foreign Labor Certification, U.S. Department of Labor, Room C-4312, 200 Constitution Avenue, NW., Washington, DC 20210; telephone: 202-693-3010 (this is not a toll-free number).

SUPPLEMENTARY INFORMATION: To enhance effectiveness and eliminate undue burden on program users, the Department has reformed its process to issue permanent labor certifications and continues to review and strengthen its various temporary labor certification programs, primarily those leading to H-1B, H-1B1, H-2B, and H-2A worker visas. The Department's long-term goal is to streamline, automate, and centralize operations and processes that may have been duplicative, lengthy, or unduly burdensome. Ongoing and proposed changes are designed to improve the efficiency and integrity of each program.

The purpose of this notice is threefold. First, the notice seeks to update the filing instructions for applications to the temporary labor certification programs, in light of the Department's plans to transfer the Federal processing responsibility related to H-2A and H-2B program applications, as well as applications requiring special handling, to its National Processing Centers located in Atlanta and Chicago. Accordingly, much of the information below related to these applications is new.

Second, the notice seeks to present—clearly, briefly, and in a single document—basic filing instructions for key labor certification programs, including the permanent program. In the context of significant changes to labor certification operations and activities, the Department believes stakeholders would benefit from summarized, organized guidance that establishes a baseline for filings going forward. In those cases in which guidance is unchanged—notably, for the permanent program—this notice restates the instructions that have been provided in recent guidance but, for clarity, refers back to each of the notices originally published. As an aid, this notice attaches a chart, which the Department will update as needed, for use as a one-stop reference on filing requirements for each of the programs listed below.

Third, the Department seeks to provide initial guidance governing the filing of applications for labor certification under the E-3 worker visa program.

H-1B and H-1B1 Temporary Professional Workers

Application submission: Labor Condition Applications filed under the H-1B program, as well as the H-1B1 program created pursuant to legislation implementing the United States-Chile and United States-Singapore Free Trade Agreements, may be filed electronically, by U.S. Mail, or by facsimile. Employers complete an electronic Labor Condition Application (LCA) through DOL's Foreign Labor Certification LCA Online System at http://www.lca.doleta.gov. In addition, employers nationwide may mail or fax LCAs on ETA Form 9035 to ETA's Backlog Elimination Center in Philadelphia, as follows:

ETA Backlog Elimination Center, P.O. Box 13640, Philadelphia, Pennsylvania 19101; (800) 397-0478 (fax).

Employers wishing to withdraw a Labor Condition Application may do so by contacting the ETA National Office as noted below. In addition, the Department has proposed to require electronic filing of H-1B/H-1B1 applications in most instances. See 70 FR 16774. A printable copy of the ETA Form 9035 is available at http://atlas.doleta.gov/foreign/preh1BForm.asp. See 20 CFR part 655 subpart H, 69 FR 69412, and the Department's website, http://www.doleta.gov/business/gw/guestwkr, for additional details on H-1B and H-1B1 filing requirements and use of this form.

Seventh-year extensions: Employers are asked to e-mail any and all inquiries regarding seventh-year H-1B extensions to the Backlog Elimination Center where their permanent labor certification case is pending. Inquiries may be submitted to the Philadelphia Backlog Elimination Center at h1b7yr@phi.dflc.us, and to the Dallas Backlog Elimination Center at h1b7yr@dal.dflc.us. Please see http://atlas.doleta.gov/foreign/times.asp for a display of the SWA case shipping schedule and respective Center locations.

H-2B Temporary Nonagricultural Program

Application Submission: Employers continue to file an ETA 750, Part A, Application for Alien Employment Certification with the State Workforce Agency serving the area of intended employment. State Workforce Agencies will continue their traditional practice of review and recruitment oversight.

Note: State Workforce Agencies (SWAs), effective Monday, July 18, 2005, will send processed H-2B applications to the corresponding National Processing Center instead of an ETA Regional Office or Backlog Elimination Center. In other words, all H-2B applications, once reviewed by the SWA, will be sent to either the Atlanta or Chicago National Processing Center. Current state processing time requirements remain unchanged.

State distribution: Each Center will accept applications corresponding to the areas of intended employment listed below.

Atlanta National Processing Center: Alabama, Connecticut, Delaware, Florida, Georgia, Kentucky, Maine, Maryland, Massachusetts, Mississippi, New Hampshire, New Jersey, New York, North Carolina, Pennsylvania, Rhode Island, South Carolina, Tennessee, Vermont, Virginia, Washington DC, West Virginia, Puerto Rico, or the Virgin Islands.

U.S. Department of Labor, Employment and Training Administration, Atlanta National Processing Center, Harris Tower, 233 Peachtree Street, NE., Suite 410, Atlanta, Georgia 30303; Phone: (404) 893-0101; Fax: (404) 893-4642.

Chicago National Processing Center: Alaska, Arizona, Arkansas, California, Colorado, Hawaii, Idaho, Illinois, Indiana, Iowa, Kansas, Louisiana, Michigan, Minnesota, Missouri, Montana, Nebraska, Nevada, New Mexico, North Dakota, Ohio, Oklahoma, Oregon, South Dakota, Texas, Utah, Washington, Wisconsin, Wyoming, or Guam.

U.S. Department of Labor, Employment and Training Administration, Chicago National Processing Center, 844 North Rush Street, 12th Floor, Chicago, Illinois 60611; Phone: (312) 886-8000; Fax: (312) 886-1688.

This process does not apply to H-2B applications for boilermakers, entertainers, logging, and professional team sports, which are treated separately below.

Boilermakers and professional team sports: The H-2B filing process for professional team sport applications and emergency applications for boilermakers shall continue unchanged, i.e., employers will continue to submit these applications to ETA's National Office for processing. Questions regarding applications on these job classifications may be addressed to:

Leticia Sierra, Manager, Temporary Programs, U.S. Department of Labor, Employment and Training Administration, Division of Foreign Labor Certification, 200 Constitution Avenue, NW., Room C-4312, Washington, DC 20210. (202) 693-3010 (this is not a toll-free number).

Entertainers: The Federal review process for H-2B entertainers shall change effective July 18, 2005. Employers will continue to file applications with state Offices Specializing in Entertainment (OSEs) in Austin, New York, and Sacramento. However, rather than forward applications to ETA Regional Offices in New York, Dallas, and San Francisco, these state offices will now send applications to the Chicago Processing Center for a determination, as noted below:

H-2B entertainers previously sent to: | Send to:
New York City Regional Office | Chicago National Processing Center.
Dallas Regional Office | Chicago National Processing Center.
San Francisco Regional Office | Chicago National Processing Center.

Applications for the Logging Industry: Employers and/or agents should continue to submit applications to their respective State Workforce Agencies, i.e., Maine, New Hampshire, New York, and Vermont. However, effective July 18, 2005, SWA staff must forward processed applications to the Atlanta National Processing Center rather than to the ETA Boston Regional Office. Processing time requirements remain unchanged.

Previously sent to: | Send to:
Boston Regional Office | Atlanta National Processing Center.

Inquiries (all H-2B applications): Employers and/or agents having questions regarding the status of their H-2B application(s) should use the contact information noted for the Atlanta and Chicago National Processing Centers.

H-2A Temporary Agricultural Program

Centralizing H-2A Federal Review: State Workforce Agencies will continue their current responsibilities with respect to the receipt and processing of H-2A applications. These responsibilities include prevailing wage/prevailing practice surveys, recruitment of domestic workers, and housing inspections. Effective August 1, 2005, employers will file original copies of their H-2A applications directly with either the National Processing Centers in Atlanta and Chicago, depending on area of intended employment, and simultaneously file a copy with the appropriate SWA. The SWAs will coordinate all activities regarding the processing of the H-2A applications with the appropriate National Processing Center for their jurisdiction, as noted above.

Specifically, SWAs currently sending H-2A applications to the following ETA offices should send materials bearing on each application—including housing inspection results, prevailing wage surveys, and prevailing practice surveys—as follows:

H-2A applications previously sent to: | Send to:
San Francisco Regional Office | Chicago National Processing Center
Seattle Regional Office | Chicago National Processing Center
Denver Regional Office | Chicago National Processing Center
Dallas Regional Office (Backlog Center) | Chicago National Processing Center
Chicago Regional Office | Chicago National Processing Center
Boston Regional Office | Atlanta National Processing Center
New York Regional Office | Atlanta National Processing Center
Philadelphia Regional Office (Backlog Center) | Atlanta National Processing Center
Atlanta Regional Office | Atlanta National Processing Center

H-2A program fees previously sent to: | Send to:
San Francisco Regional Office | Chicago National Processing Center
Seattle Regional Office | Chicago National Processing Center
Denver Regional Office | Chicago National Processing Center
Dallas Regional Office (Backlog Center) | Chicago National Processing Center
Chicago Regional Office | Chicago National Processing Center
Boston Regional Office | Atlanta National Processing Center
New York Regional Office | Atlanta National Processing Center
Philadelphia Regional Office (Backlog Center) | Atlanta National Processing Center
Atlanta Regional Office | Atlanta National Processing Center

E-3 Professional Workers (Australia)

The Emergency Supplemental Appropriations Act for Defense, the Global War on Terror, and Tsunami Relief, 2005, Public Law 109-13, was signed by the President on May 11, 2005. The Act established a new nonimmigrant visa category for Australian professionals seeking to work in the United States. The Act provides for 10,500 new visas per fiscal year for Australian nationals seeking temporary work in “specialty occupations,” as defined under the H-1B provisions of the Immigration and Nationality Act (INA).

The statute requires that sponsoring employers file a Labor Condition Application with the Department of Labor. To certify a position for E-3 status, the Department must find—and certify to the Departments of Homeland Security and State—that the employer's attestations meet the requirements of INA § 212(t)(1), the section governing labor certifications for the H-1B1 program.

The Department is coordinating with other Federal agencies with an interest or potential role in the E-3 program to determine and issue further guidance on the specific parameters of the program and how the program will be administered. In the interim, the Department recommends employers seeking to sponsor workers under the E-3 category:

• Use Form ETA 9035, Labor Condition Application for H-1B & H-1B1 Nonimmigrants, to request certification under the E-3 program.

• Print “E-3—Australia—to be processed” at the top of each page of the form. Please print legibly and use blue or black ink.

• File the completed LCA with the Department of Labor's National Office.

Questions regarding E-3 Labor Condition Applications may be addressed to:

Leticia Sierra, Manager, Temporary Programs, U.S. Department of Labor, Employment and Training Administration, Division of Foreign Labor Certification, 200 Constitution Avenue, NW., Room C-4312, Washington, DC 20210; (202) 693-3010 (this is not a toll-free number).

Permanent Labor Certification Program

New regulations, effective March 28, 2005, implement a reengineered permanent labor certification program through the use of a new Program Electronic Review Management (PERM) system. See 69 FR 77326. Employers requesting labor certifications for the permanent employment of aliens under this new regulation must use a new ETA Form 9089, Application for Permanent Employment Certification, which they must file directly with DOL either electronically or by U.S. Mail to the appropriate National Processing Center. The Department will not accept applications submitted by facsimile.

Permanent program applications are processed at DOL's National Processing Centers, located in Atlanta and Chicago. The Department opened these centers in December 2004 to review applications filed under the PERM system. The National Processing Centers will also process applications filed under the previous regulation that meet the refiling requirements of the new program. See 20 CFR 656.17(d).

Electronic applications: For faster processing, the Department encourages employers to file applications using the Permanent Online System at http://www.plc.doleta.gov. After employers register and establish an account, they or their representatives (for whom they have established a subaccount) can proceed to complete the application electronically. An application filed electronically will be immediately routed to the National Processing Center responsible for the geographic area serving the area of intended employment.

Mailed applications: Employers electing to file non-electronically must submit applications in accordance with the guidance published previously in the Federal Register governing which states correspond to which National Processing Center and restated below. See 70 FR 6734. The PERM application must be mailed to the National Processing Center listed below that covers the state or territory in which the area of intended employment is located, as identified below.

Atlanta National Processing Center: Alabama, Connecticut, Delaware, Florida, Georgia, Kentucky, Maine, Maryland, Massachusetts, Mississippi, New Hampshire, New Jersey, New York, North Carolina, Pennsylvania, Rhode Island, South Carolina, Tennessee, Vermont, Virginia, Washington DC, West Virginia, Puerto Rico, or the Virgin Islands

U.S. Department of Labor, Employment and Training Administration, Atlanta National Processing Center, Harris Tower, 233 Peachtree Street, NE., Suite 410, Atlanta, Georgia 30303; Phone: (404) 893-0101. Fax: (404) 893-4642.

Chicago National Processing Center: Alaska, Arizona, Arkansas, California, Colorado, Hawaii, Idaho, Illinois, Indiana, Iowa, Kansas, Louisiana, Michigan, Minnesota, Missouri, Montana, Nebraska, Nevada, New Mexico, North Dakota, Ohio, Oklahoma, Oregon, South Dakota, Texas, Utah, Washington, Wisconsin, Wyoming, or Guam

U.S. Department of Labor, Employment and Training Administration, Chicago National Processing Center, 844 North Rush Street, 12th Floor, Chicago, Illinois 60611; Phone: (312) 886-8000; Fax: (312) 353-3352.

Applications submitted under the permanent labor certification regulation in effect prior to March 28, 2005: Applications for permanent labor certification filed under the regulation in effect until March 28, 2005, are being processed in either one of two Backlog Elimination Centers established by the Department in Dallas and Philadelphia, based upon the state in which the area of intended employment is located. Previously filed applications pending in SWA offices or DOL Regional Offices have been transferred for centralized processing in Dallas and Philadelphia. Please see http://atlas.doleta.gov/foreign/times.asp for a display of the SWA case shipping schedule and respective Center locations.

Philadelphia Backlog Elimination Center: Same states as covered by the Atlanta National Processing Center, ETA/DFLC Backlog Elimination Center, U.S. Department of Labor, 1 Belmont Avenue, Suite 200, Bala Cynwyd, Pennsylvania 19004; (484) 270-1500 (phone); (484) 270-1600 (fax).

Dallas Backlog Elimination Center: Same states as covered by the Chicago National Processing Center, ETA/DFLC Backlog Elimination Center, U.S. Department of Labor, 700 North Pearl Street, Suite 400 N, Dallas, Texas 75201; (214) 237-9111 (phone); (214) 237-9135 (fax).

Professional team sports: The DOL ETA National Office will continue to process employer applications for certification of permanent positions in professional team sports.

For all other Foreign Labor Certification Program matters, e.g., PERM Schedule A and Sheepherders, etc., please forward questions to the ETA National Office at the address noted above.

For additional information on requirements for filing applications under the PERM program and a listing of Frequently Asked Questions (FAQs) for both PERM and backlogged application processing, please see http://atlas.doleta.gov/foreign.

Signed in Washington, DC this 13th day of July, 2005.
Emily Stover DeRocco,
Assistant Secretary, Employment and Training Administration.

BILLING CODE 4510-30-U

[FR Doc. 05-14120 Filed 7-18-05; 8:45 am]

BILLING CODE 4510-30-C